DEPARTMENT OF HEALTH AND HUMAN SERVICES

Administration for Children and Families

[Program Announcement No. OCS-2001-06]

Fiscal Year 2001 Family Violence Prevention and Services Discretionary Funds Program; Availability of Funds and Request for Applications

AGENCY: Office of Community Services (OCS), Administration for Children and Families (ACF) DHHS.

ACTION: Announcement of the availability of funds and request for applications under the Office of Community Services' Family Violence Prevention and Services Discretionary Funds Program.

SUMMARY: The Administration for Children and Families (ACF), Office of Community Services (OCS), announces its Family Violence Prevention and Services discretionary funds program for fiscal year (FY) 2001. Funding for grants under this announcement is authorized by the Family Violence Prevention and Services Act, Public Law 102-295, as amended, governing discretionary programs for family violence prevention and services. Applicants should note that the award of grants under this program announcement is subject to the availability of funds. This announcement contains all forms and instructions for submitting an application.

DATES: The closing date for submission of applications is May 21, 2001. Applications postmarked after the closing date will be classified as late. Applicants are cautioned to request a legibly dated U.S. Postal Service postmark or to obtain a legibly dated receipt from a commercial carrier or U.S. Postal Service. Private metered postmarks shall not be accepted as proof of timely mailing. Detailed application submission instructions, including the addresses where applications must be received, are found in Part IV of this announcement.

Hand delivered applications are accepted during the normal working hours of 8:00 a.m. to 4:30 p.m. EST at the Family Violence Operations Center: 1815 North Fort Myer Drive, Suite 300, Arlington, VA 22209 between Monday and Friday (excluding Federal holidays). (Applicants are cautioned that express/overnight mail services do not always deliver as agreed.)

ADDRESSES: Applicants should be mailed to Family Violence Operations Center; 1815 North Fort Myer Drive, Suite 300, Arlington, VA 22209; Attention: Application for Family Violence Prevention and Services Program.

Number of Copies Required: One signed original application and four copies should be submitted at the time of initial submission. (OMB-0970-0062, expiration date 10/31/2001.)

Acknowledgement of Receipt: An acknowledgement will be mailed to all applicants with an identification number that will be noted on the acknowledgement. This number must be referred to in all subsequent communications with OCS concerning the application. If an acknowledgment is not received within three weeks after the application deadline, applicants may notify the Family Violence Operations Center by telephone at (703) 351-7676. Applicant should also submit a mailing label for the acknowledgement.

Note: To facilitate receipt of this acknowledgement from ACF, applicant should include a cover letter with the application containing an E-mail address and facsimile (FAX) number if these items are available to applicant.

FOR FURTHER INFORMATION, CONTACT: Administration for Children and Families, Office of Community Services, Division of State Assistance, 370 L'Enfant Promenade, SW., Washington, DC 20447. Telephone Sunni Knight (202) 401-5319, James Gray (202) 401-5705, William Riley (202) 401-5529 or Shena Russell (202) 205-5932.

For a Copy of the Announcement, Contact: Family Violence Operations Center: 1815 North Fort Myer Drive, Suite 300, Arlington, VA 22209; Attention: Application for Family Violence Prevention and Services Program. (703) 351-7676.

In addition, the announcement will be accessible on the OCS website for reading or printing at: http://www.acf.dhhs.gov/programs/ocs under “Funding Opportunities”.

SUPPLEMENTARY INFORMATION: The Office of Community Services, Administration for Children and Families, announces that applications are being accepted for funding for FY 2001 projects on:

FV-01-01—Specialized Outreach Projects for Services to Underserved and Diverse Populations;

FV-02-01—Minority Training Grant Stipends in Domestic Violence for Historically Black, Hispanic-Serving, and Tribal Colleges and Universities;

FV-03-01—Public Information/Community Awareness Campaign Projects for the Prevention of Family Violence; and

FV-04-01—Collaborative Efforts between Faith-Based Organizations and Domestic Violence Organizations.

This program announcement consists of four parts.

Part I provides information on the family violence prevention and services program and the statutory funding authority applicable to this announcement.

Part II describes the priority areas under which applications for FY 2001 family violence funding are being requested.

Part III describes the applicable evaluation criteria.

Part IV provides other information and instructions for the development and submission of applications.

Part I. Introduction

Title III of the Child Abuse Amendments of 1984, (Pub. L. 98-457, 42 U.S.C. 10401, et seq.) is entitled the Family Violence Prevention and Services Act (the Act). The Act was first implemented in FY 1986, was reauthorized and amended in 1992 by Public Law 102-295, and was amended and reauthorized for fiscal years 1996 through 2000 by Public Law 103-322, the Violent Crime Control and Law Enforcement Act of 1994 and by Public Law 104-235, the “Child Abuse Prevention and Treatment Act Amendment of 1996.” The Act was most recently amended by the “Violence Against Women Act of 2000” (Pub. L. 106-386, 10/28/2000).

The purpose of this legislation is to assist States in supporting the establishment, maintenance, and expansion of programs and projects to prevent incidents of family violence and provide immediate shelter and related assistance for victims of family violence and their dependents.

We expect to fund four priority areas in FY 2001:

1. Specialized Outreach Projects for Services to Underserved and Diverse Populations—In order to further the commitment of bringing diverse voices to the table, OCS intends to support a minimum of two projects that convene researchers, activists, survivors, and practitioners who have been advocates of a more culturally specific orientation towards eliminating domestic violence.

2. Minority Training Grant Stipends in Domestic Violence for Historically Black, Hispanic Serving, and Tribal Colleges and Universities—The provision of training grant stipends to Historically Black, Hispanic-Serving and Tribal Colleges and Universities will assist in generating skill-building and training opportunities particularly responsive to issues related to cultural context and the extent to which individuals in some minority groups do or do not seek services from the domestic violence system.

3. Public Information/Community Awareness Campaign Projects for the Prevention of Family Violence—The public information/community awareness projects will provide information on resources, facilities, and service alternatives available to family violence victims and their dependents, other individuals seeking assistance, community organizations, local school districts, and others.

3. Collaborative Efforts between Faith-Based Spiritual Organizations and Domestic Violence Organizations—Collaborative efforts between faith-based/spiritual organizations and the domestic violence community that will create additional points of entry and assistance for persons in abusive relationships as they seek services.

Part II. Fiscal Year 2001 Family Violence Projects

1. Priority Area Number FV-01-01: Specialized Outreach Projects for Services to Underserved and Diverse Populations

Background

The Office of Community Services in the Administration for Children and Families is aware of the importance of moving beyond a “one size fits all” approach in the development and implementation of Federal policies and programs to address domestic violence in ethnically and racially diverse communities. In order to further ACF's commitment of bringing diverse voices to the table, OCS intends to support at least two projects that will convene researchers, activists, and practitioners who have been advocating a more culturally oriented response to the problems of domestic violence within specific racial/ethnic communities. OCS believes that these projects will assist OCS, researchers, policy makers, domestic violence organizations and organizations serving these communities nationwide to identify and develop model programs and policies and improve services, particularly services that are respectful of cultural and community characteristics.

Program Purpose

The expertise developed as a result of the Outreach projects will offer assistance on resource information, policy analysis and review, and training for public and private organizations in the domestic violence community.

Eligible Applicants

Public and private non-profit organizations and/or collaborations that focus primarily on issues of domestic violence in racial, ethnic, and underserved diverse communities. All applicants must have documented organizational experience in the areas of domestic violence prevention and services, and experience related to the specific underserved population to whom assistance would be provided. Each applicant must have an advisory board/steering committee that is reflective of the targeted underserved community.

Minimum Requirements for Project Design

The Office of Community Services seeks to support specialized outreach effort on behalf of underserved and diverse communities. The OCS will support at least two projects each of which will be staffed and/or supported by expert and multi-disciplined teams that are culturally responsive and competent in regard to the issues of domestic violence in their particular community.

Areas of emphasis to be developed in the applicants' proposals are:

A description of the immediacy of the need(s) to be addressed as an outreach Project; and the provision information on the specific services your organization currently provides, and a general description of services to be provided as a demonstration;

The technical assistance, training and consultations needed to improve the cultural relevancy of service delivery, resource utilization, and state-of-the-art-techniques related to program implementation, service delivery, and evaluation;

The development of a network of culturally competent professionals in domestic violence and the coordination of their input and expertise to assist persons, programs or agencies requesting assistance or information;

The presentation of the technical approach and specific strategies for assistance to the field that is national in scope, culturally specific in emphasis, and includes the use of an expert panels and/or working groups;

The description of efforts that will be initiated with other national advocacy and domestic violence organizations, other national and technical assistance resource centers and clearinghouses and articulate how the initiation of or continued coordination with them will enhance the project's efforts;

The provision of a detailed discussion or plan which proposes the implementation of special projects related to policy issues, training curricula, service delivery models or other aspects of services, related to the prevention of domestic violence;

The provision of a workplan and evaluation schedule, and a plan for a report on the effectiveness of the project one-year after the effective date of the grant award;

The description of the Outreach Project Staff and supportive expertise including; the steering committee, organizational or institutional affiliations, capability, and domestic violence experience; and

A description of the organizational and administrative structure, the management plan, and the cost structure within which the project will operate; describe the administrative, operational and organizational relationships to be established with other centers and technical assistance entities to establish an effective national network.

Project Period

Awards, on a competitive basis, will be for a one-year budget period, although project periods may be for 3 years. Applications for continuation grants funded under these awards beyond the one-year budget period will be entertained in subsequent years on a non-competitive basis, subject to the availability of funds, satisfactory progress of the grantee, and a determination that continued funding would be in the best interest of the government.

Budget Period and Federal Share

Total funds available for the first 12-months of each of the projects is estimated to be approximately $150,000 subject to the availability of funds.

Matching Requirement

Grantees must provide at least 25 percent of the total cost of the project. The total cost of the project is the sum of the ACF share and the non-Federal share. The non-Federal share may be met by cash or in-kind contributions, although applicants are encouraged to meet their match through cash contributions. If approved for funding, the grantee will be held accountable for commitments of non-Federal resources, and failure to provide the required amounts will result in a disallowance of unmatched Federal funds.

Therefore, a project requesting $150,000 in Federal funds (based on an award of $150,000 per budget period) must include a match of at least $50,000 (25% of the total project cost) for a total budget of $200,000.

Anticipated Number of Projects To Be Funded

It is anticipated that a minimum of two Outreach Demonstration projects will be funded. Additional projects may be funded if awarded projects are for lesser amounts.

CFDA 93.592—Family Violence Prevention and Services: Family Violence Prevention and Services Act, as amended.

2. Priority Area Number FV-02-00: Minority Training Grant Stipends in Domestic Violence for Historically Black, Hispanic-Serving, and Tribal Colleges and Universities

Background

Media coverage, court records, and crime statistics suggest that a substantial proportion of the domestic violence which occurs in the general population involves underserved populations, including populations that are underserved because of ethnic, racial, cultural, language diversity or geographic isolation (Brachman & Saltzman, 1995). Official statistics on child abuse and spouse abuse indicate that women, minorities, and the poor are over-represented among victims of domestic violence (Straus, Gelles, & Steinmetz, 1980). The scholars and practitioners who are responding to violence in underserved communities are currently few in number and work in isolation. The purpose of this effort and priority area is to increase the capacity of HBCUs, Hispanic and Tribal Colleges and Universities to develop practice-based knowledge and provide stipends for students with a specialty in working in the field of Family Violence.

There are three Executive Orders that support the provision of training grants to the educational institutions targeted in this priority area:

(1) Executive Order 13021 of October 19, 1969, Tribal Colleges and Universities that reaffirm the special relationship of the Federal Government to American Indians and identifies several purposes that support access to opportunities, resources, and educational opportunities for economically disadvantaged students.

(2) Executive Order 12876 of November 1, 1993, Historically Black Colleges and Universities which requires strengthening the capacity of Historical Black Colleges and Universities to provide quality education and increased opportunities to participate in and benefit from Federal programs.

(3) Executive Order 12900 of December 5, 1994, Educational Excellence for Hispanic Americans that requires the provision of quality education and increased education and increased opportunities to participate in and benefit from Federal programs.

Purpose

OCS/ACF plans to fund at least six projects to Historically Black Colleges and Universities; Hispanic/Latino Institutes of Higher Education; and American Indian Tribally controlled Community Colleges and Universities. (Fiscal Year 1999 and 2000 recipients of Family Violence Training Grant Stipend awards are not eligible applicants.) The institution must be fully accredited by one of the regional institutional accrediting commissions recognized by the U.S. Secretary of Education and the Council on Social Work Education.

The purposes of the projects are:

(a) To provide support for graduate and undergraduate students who show promise and demonstrate serious interest and commitment to working in the field of issues related to domestic violence or in underserved populations. Historically Black, Hispanic, and American Indian colleges and universities will be given special consideration in order to generate skill building and training opportunities particularly responsive to issues of cultural content;

(b) To support the growth of college and university-based practice knowledge about domestic violence; encourage social work students to pursue careers that address the issue of domestic violence; and stimulate the training of new social workers in the field; and

(c) To identify best practices regarding critical issues in domestic violence prevention, identification, and treatment efforts in under-served domestic violence populations. These grants will include an institutional payment to cover the individual student's tuition and fees, and a stipend for the student.

Minimum Requirements for Project Design

Field Placement: The grant will provide stipends for qualified individuals pursuing degrees in social work with a special interest in working in the field of domestic violence. It will provide one-year graduate and/or undergraduate stipends to support skill building and training of students interested in domestic violence treatment and intervention services to underserved racial and ethnic minority populations. Stipends to any one student should not exceed a 12-month period.

Placements must provide a structured learning environment that enables students to compare their field placement experiences, integrate knowledge from the classroom, and expand knowledge beyond the scope of the practicum setting (Council on Social Work Education, 1994, Baccalaureate and Master's Program Evaluative Standards, Interpretive Guidelines, Curriculum Policy Statement, and the Accreditation Standards and Self-Study Guides).

Proposals must include content about differences and similarities in the experiences, needs, and beliefs of the people being served. The proposals must also include content about differential assessment and intervention skills that will enable practitioners to serve diverse populations. The applicant must indicate the area of interest, objectives, and goals of the placement study. All field placements will be at a minimum of 400 hours for a one-year period.

The field placements should focus on the general and specific placement areas as indicated:

—Educational services to the community on domestic violence

—Interventions with domestic violence victims

—Batterer's intervention services

—Medical and/or social services to families experiencing family violence

—Domestic violence and the court system

—Impact of domestic violence on welfare reform services

—Legal services related to domestic violence

—Crisis intervention services

—Community service centers

—The Faith community

—Prevention services with high-risk youth

—Prisons

Faculty Involvement: Faculty must indicate the use of professional supervision to enhance the learning of students and must coordinate and monitor practicum placements of student selected for stipends.

Proposals must define the social work setting and practice, field instructor assignments and activities, and student learning expectations and responsibilities.

Individual faculty may organize their practicum-placements in different ways but must ensure educationally directed, coordinated, and monitored practicum experiences are maintained for students and that these field experiences are related to domestic violence.

Faculty must articulate clear practice and evaluation goals for the field practicum. Each institutional proposal must provide an orientation plan for the student to the practicum placement and the agency's policy.

Final Products/Results and Benefits Expected

• Practicum proposal/contract between the student, the organization (agency), and the college or university indicating defined objectives, goals, students performance, benefits to student, lessons learned, and recommendations for future placement at agency;

• A Final Report focused on agency population served, difficulties encountered, outcomes, implications and recommendations for future placements. The report should be prepared and submitted to the Office of Community Services and submitted at the end of the project period; and

• A mid-year student performance evaluation will be provided to participating students.

Eligible Applicants

Historically Black Colleges and Universities; Hispanic Serving Colleges and Universities; and Tribal Colleges and Universities. Hispanic serving Colleges and Universities are defined as those who student population is more than 25% Hispanic. Tribal Colleges and Universities are those institutions cited in section 532 of the Equity in Educational Land-Grant Status Act of 1994 (7 U.S.C. 301 note), any other institution that qualifies for funding under the Tribally Controlled Community College Assistance Act of 1978. (Fiscal Year 1999 and 2000 recipients of Family Violence Training Grant Stipend awards are not eligible applicants.) Applicant institutions must be fully accredited by one of the regional institutional accrediting commissions recognized by the U.S. Secretary of Education and the Council on Social Work Education.

Participants would include qualified undergraduate or graduate social work students. All students must be enrolled in the institution.

• Recipients of student stipends must maintain satisfactory academic records and be full-time students.

• Awards will be made only to eligible institutions on behalf of their qualified candidates.

Project Duration

Awards, on a competitive basis, will be for a one-year budget period, although the project periods may be for two years. Application for continuation grants funded under these awards beyond the one-year budget period will be entertained in subsequent years on a non-competitive basis, subject to the availability of funds, satisfactory progress of the grantee, and a determination that continued funding would be in the best interest of the government. Stipends are awarded for one year, not to exceed 12 months.

Budget Period and Federal Share

Total funds available for the first 12 months budget period is estimated to be approximately $100,000 subject to the availability of funds. The Federal share will fund up to five student candidates at a maximum of $11,250 each and will fund one faculty coordinator for the project at $43,750.

Matching Requirements

Successful applicants must provide at least 25 percent of the total cost of the project. The total cost of the project is the sum of the ACF share and the non-federal share. The non-federal share may be met by cash or by in-kind contributions, although applicants are encouraged to meet their match through cash contributions. Therefore, a project requesting $100,000 in Federal funds (based on an award of $100,000 per budget period) must include a match of at least $33,333 (25% of the total project cost) for a total budget of $133,333.

Anticipated Number of Projects To Be Funded

It is anticipated that a minimum of six projects will be funded. Applications for lesser amounts of the Federal share will also be considered for this priority area.

CDFA 93.592—Family Violence Prevention and Services: Family Violence Prevention and Services Act as amended.

3. Priority Area FV 03-01—Public Information and/or Community Awareness Campaign Projects for the Prevention of Family Violence

Background

Based on the positive response to prior year public information and community awareness grants, ACF will again make these grants available in FY 2001.

Previous public information/community awareness grants have stimulated the development of a number of very effective informational programs and activities at the local levels. They have assisted community organizations to focus on and emphasize prevention; helped make available public service announcements and descriptive program brochures in several different languages, including Russian and Vietnamese; and assisted in the implementation of conflict resolution activities in elementary, middle, and high school curricula. The continuation of these grant awards will help assure that individuals, particularly these within minority communities, are aware of available alternatives and resources for the intervention and prevention of family violence.

This priority area requires the development and implementation of an effective public information campaign that may be used, for example, by public and private agencies, schools, churches, boys and girls clubs, community organizations, and individuals.

Accurate information is critical to any community awareness strategy and activity. How information is communicated must be modified where communication barriers may exist because of perceived or real language differences and cultural insensitivity. OCS seeks to continue to provide victims, their dependents, and perpetrators, and others in the community with knowledge of the service options available.

Purpose

To assist in the continued development of state/local public information and community awareness campaign projects and activities that assist in preventing family violence. These projects should provide information on resources, facilities, other individuals seeking assistance, and service alternatives available to family violence victims and their dependents, community organizations, local school districts, and others.

Eligible Applicants

State and local public agencies, Territories, and Native American Tribes and Tribal Organizations who are, or have been, recipients of Family Violence Prevention and Services Act grants; State and local private non-profit agencies experienced in the field of family violence prevention; and public and private non-profit educational institutions, community organizations and community-based coalitions, and other entities that have designed and implemented family violence prevention information activities or community awareness strategies.

Minimum Requirements for Project Design

In order to successfully compete under the priority area, the applicant should:

• Present a plan for community awareness and public information activities that clearly reflects how the applicant will target the populations at risk, including pregnant women; coordinate its implementation efforts with public agencies and other community organizations; and communicate with institutions active in the field of family violence prevention.

• Describe the proposed approach to the development of a public information campaign and identify the specific audience(s), community(s), and groups that will be targeted, including communities and groups with the highest prevalence of domestic violence.

• Include, as critical elements in the plan:

A set of achievable objectives and a description of the population groups, relevant geographic area, and the indicators to be used to measure progress and the overall effectiveness of the campaign;

The intended strategies for test marketing the development plans and assurances that effectiveness criteria will be implemented prior to the completion of the final plan;

The development and use of non-traditional sources as community awareness or information providers (applicants should present specific plans for the use of local organizations, businesses and individuals in the distribution of information and materials); The identification of the media to be used in the campaign and the geographic limits of the campaign;

How the applicant would be responsive and sensitive to minority communities and their cultural perspectives; and

A description of the kind, volume, distribution, and timing of the proposed information with assurances that the public information campaign activities will not supplant or lower the current frequency of current public service announcements.

Project Duration

The length of the project should not exceed 12 months.

Federal Share of the Project

The maximum Federal share of the project will not exceed $35,000 for the 1-year project period. Applications for lesser amounts also will be considered under this priority area.

Matching Requirement

Successful grantees must provide at least 25 percent of the total cost of the project. The approved total cost of the project. Applications for lesser amounts also will be considered under this priority area. Cash or in-kind contributions may meet the non-Federal share, although applicants are encouraged to meet their match requirements through cash contributions. Therefore, a project requesting $35,000 in Federal funds must include a match of at least $11,666 (25% of total project cost). If approved for funding, grantees will be held accountable for commitments of non-Federal resources and failure to provide the required amount will result in a disallowance of unmatched Federal funds.

Anticipated Number of Projects To Be Funded

It is anticipated that five projects will be funded at the maximum level. We may fund more than five projects if we receive acceptable applications for lesser amounts.

CFDA 93.592—Family Violence Prevention and Services: Family Violence Prevention and Services Act, as amended.

4. Priority Area FV-04-01— Collaborative Efforts Between Faith-Based/Spiritual Organizations and Domestic Violence Organizations

Background

Surveys indicate that approximately one out of ten person avail themselves of social services provided by congregations and faith-based organizations. Childcare was the service most often requested. The second most frequently requested service was counseling. Nearly one in every three survey respondents said that they received some type of counseling from spiritual leaders or a member of their affiliated congregation. For many women across varying social and economic strata, churches, synagogues or places of contemplation and spiritual connection are the only sources of safe and confidential interaction.

However, even in these settings of assumed trust and confidentiality, many women who seek counseling are hesitant to expose the nature and extent of their abuse because of fear, shame, guilt, or feelings of human or spiritual failure. Additionally, spiritual leaders, though dedicated to the principles of respect and human dignity for all people, are sometimes unable to recognize the characteristics and results of abusive relationships. Even when recognized, they often lack the resources and information available to provide support that would ensure protection and safety through the resolution of the problem. Establishing a collaborative effort between faith-based organizations and domestic violence intervention services will help provide organizations with information about the availability of domestic violence intervention services, effectively create additional points of entry to services for victims of family violence; and expand/strengthen the network of knowledgeable service providers.

Purpose

The purpose of this priority area is to support collaborative efforts that would enhance the response to a battered woman whose initial point of contact for help was with a member of a faith-based organization. Further, this priority area seeks to support the development of credible and helpful information from faith based organizations in order to increase the involvement and leverage from this vital segment of the community.

Some suggested activities applicable under this priority area are:

(a) Plan and implement training and the development of training materials that enable leaders of faith-based organizations to increase the capacity of the faith-based community to understand and appropriately respond to the complexities of domestic violence.

(b) Plan and implement a replicable domestic violence collaborative project that provides information on resources, facilities, and service alternatives to family violence victims and their dependents for use by faith-based organizations.

(c) Plan and implement a domestic violence information and awareness project related to specific population groups such as youth, elderly, disabled, or gay/lesbian/transgender individuals that provide information on the services available to these groups for intervention and prevention.

Eligible Applicants

State and local private non-profit agencies experienced in the field of family violence prevention in collaboration with private non-profit faith-based organizations, public and private non-profit educational/faith-based institutions, associations, or societies; and other entities that have designed and implemented educational, informational material and activities related to the prevention of domestic violence as a faith-based issue.

Minimum Requirements for Project Design

This project requires the collaboration between a recognized domestic violence service provider or state domestic violence coalition with a church, synagogue, mosque, faith-based or spiritually based organization.

The applicants' proposals should address the following: Demonstrate that the required collaboration has occurred in the preparation and planned implementation of the activities specified in the grant application.

Demonstrate that the developed materials and/or training will incorporate guiding principles similar to the following: (1) The safety of victims and children is a priority; (2) The integrity and authority of each battered woman over her own life is to be respected; (3) Perpetrators, not victims, must be held responsible for the abuse and for stopping it; and (4) The confidentiality of client information must be ensured.

• Include, as critical elements in the plan:

• A set of identified objectives for training, outreach, and the development of training materials.

• Development of an approach and strategy that is useful in providing sensitive and responsive services and/or training which may incorporate the principles of faith-based organizations.

• A description of the type, distribution and timing of information to be developed and distributed.

• A description of any non-traditional informational sources, counseling practices, programs, or organizational linkages that might be utilized in the provision of services and information to persons in abusive situations who contact faith-based organizations.

Project Duration

The length of the project should not exceed 12 months.

Federal Share of the Project

The maximum Federal share of the project is not to exceed $37,500 for the 1-year project period. Applications for lesser amounts also will be considered under this priority area.

Matching Requirements

Successful grantees must provide at least 25 percent of the total cost of the project. The approved total cost of the project is the sum of the ACF share and non-Federal share. Cash or in-kind contributions may meet the non-Federal share although applicants are encouraged to meet their match requirements through cash contributions. If approved for funding, grantees will be held accountable for commitments of non-Federal resources and failure to provide the required amount will result in a disallowance of unmatched Federal funds. Therefore, a project requesting $37,500 in Federal funds (based on an award of $37,500 per budget period) must include a match of at least $12,500 (25% of the total project cost) for a total budget of $50,000.

Anticipated Number of Projects to be Funded: It is anticipated, subject to the availability of funds, that six projects will be funded at the maximum level; more than six projects may be funded depending on the number of acceptable applications for lesser amounts which are received.

Part III. Evaluation Criteria

Using the evaluation criteria below, a panel of at least three reviewers (primarily experts from outside the Federal government) will review each application. Applicants should ensure that they address each minimum requirement in the priority area description under the appropriate Project Design section.

Reviewers will determine the strengths and weaknesses of each application in terms of the appropriate evaluation criteria listed below and provide comments and assign numerical scores. The point value following each criterion heading indicates the maximum numerical weight that each section may be given in the review process.

1. Need for the Project (10 Points)

The extent to which the need for the project and the problems it will address have national and local significance; the applicability of the project to coordination efforts by national, Tribal, State and local governmental and non-profit agencies, and its ultimate impact on domestic violence prevention services and intervention efforts, policies and practice; the relevance of other documentation as it relates to the applicant's knowledge of the need for the project; and the identification of the specific topic or program area to be served by the project. Maps and other graphic aids should not be included.

2. Goals and Objectives (10 Points)

The extent to which the specific goals and objectives have national or local significance, the clarity of the goals and objectives as they relate to the identified need for and the overall purpose of the project, and their applicability to policy and practice. The provision of a detailed discussion of the objectives and the extent to which the objectives are realistic, specific, and achievable.

3. Approach (30 Points)

The extent to which the application outlines a sound and workable plan of action pertaining to the scope of the project, and details how the proposed work will be accomplished; relates each task to the objectives and identifies the key staff member who will be the lead person; provides a chart indicating the timetable for completing each task, the lead person, and the time committed; cites factors which might accelerate or decelerate the work, giving acceptable reasons for taking this approach as opposed to others; describes and supports any unusual features of the project, such as design or technological innovations, reductions in cost or time, or extraordinary social and community involvement; and provides for projections of the accomplishments to be achieved.

The extent to which, when applicable, the application describes the evaluation methodology that will be used to determine if the needs identified and discussed are being met and if the results and benefits identified are being achieved.

4. Results and Benefits (20 Points)

The extent to which the application identifies the results and benefits to be derived, the extent to which they are consistent with the objectives of the application, the extent to which the application indicates the anticipated contributions to policy, practice, and theory, and the extent to which the proposed project costs are reasonable in view of the expected results. Identify, in specific terms, the results and benefits, for target groups and human service providers, to be derived from implementing the proposed project. Describe how the expected results and benefits will relate to previous demonstration efforts; and

5. Level of Effort (30 Points)

Staffing Pattern

Describe the staffing pattern for the proposed project, clearly linking responsibilities to project tasks and specifying the contributions to be made by key staff.

Competence of Staff

Describe the qualifications of the project team including any experiences working on similar projects. Also, describe the variety of skills to be used, relevant educational background and the demonstrated ability to produce final results that are comprehensible and usable. One or two pertinent paragraphs on each key member are preferred to resumes. However, resumes may be included in the ten pages allowed for attachments/appendices.

Adequacy of Resources

Specify the adequacy of the available facilities, resources and organizational experience with regard to the tasks of the proposed project. List the financial, physical and other resources to be provided by other profit and nonprofit organizations. Explain how these organizations will participate in the day to day operations of the project.

Budget

Relate the proposed budget to the level of effort required obtaining project objectives and providing a cost/benefit analysis. Demonstrate that the project's costs are reasonable in view of the anticipated results.

Collaborative efforts

Discuss in detail and provide documentation for any collaborative or coordinated efforts with other agencies or organizations. Identify these agencies or organizations and explain how their participation will enhance the project. Letters from these agencies and organizations discussing the specifics of their commitment must be included in the application.

Authorship

The authors of the application must be clearly identified together with their current relationship to the applicant organization and any future project role they may have if the project is funded.

Part IV. Other Information and Instructions for the Development and Submission of Applications

Applicants should note that non-responsiveness to the section designated as “Minimum Requirements for Project Design,” in the applicable priority areas, would result in a low evaluation score by the panel of expert reviewers.

Applicants must clearly identify the specific priority area under which they wish to have their applications considered, and tailor their applications accordingly. Previous experience has shown that an application which is broad and more general in concept than outlined in the priority area description is less likely to score as well as one which is more clearly focused and directly responsive to the concerns of that specific priority area.

A. Required Notification of the State Single Point of Contact

This program is covered under Executive Order 12372, “Intergovernmental Review of Federal Programs,” and 45 CFR Part 100, “Intergovernmental Review of Department of Health and Human Services Program and Activities.” Under the order, States may design their own processes for reviewing and commenting on proposed Federal assistance under covered programs.

All States and territories, except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, American Samoa and Palau have elected to participate in the Executive Order process and have established a Single Point of Contact (SPOCs). Applicants from these twenty-eight jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or indicate “not applicable” if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations that may trigger the “accommodate or explain” rule.

When comments are submitted directly to ACF, they should be addressed to: Department of Health and Human Services, Administration for Children and Families, OCSE Office of Grants Management, 370 L'Enfant Promenade, SW., 4th Floor East, Washington, DC 20447.

A list of the Single Point of Contact for each State and Territory is included at the end of this announcement as Attachment G.

B. Paperwork Reduction Act of 1995

Under the Paperwork Reduction Act of 1995, Public Law 104-13, the Department is required to submit to the Office of Management and Budget (OMB) for review and approval any reporting and recordkeeping requirements in regulations, including program announcements. This program announcement does not contain information requirements beyond those approved for ACF grant applications under OMB Control Number 0970-0062. An agency may not conduct or sponsor and a person is not required to respond to, a collection of information unless it displays a currently valid OMB control number.

C. Deadline for Submittal of Applications

The closing date and time for submittal of applications under this program announcement is found at the beginning of this program announcement under “Closing Dates.”

Mailed applications shall be considered as meeting an announced deadline if they are either received on or before the deadline date or sent on or before the deadline date and received by ACF in time for the independent review to: Family Violence Operations Center: 1815 North Myer Drive, Suite 300, Arlington, VA 22209; Attention: Application for Family Violence Prevention and Services Program.

Applications handcarried by applicants, applicant couriers, or overnight/express mail couriers shall be considered as meeting an announced deadline if they are received on or before the deadline date, between the hours of 8:00 a.m. and 4:30 p.m., at the Family Violence Operations Center: 1815 North Fort Myer Drive, Suite 300, Arlington, VA 22209, between Monday and Friday, (excluding Federal holidays). (Applicants are cautioned that express/overnight mail services do not always deliver as agreed.)

ACF cannot accommodate transmission of applications by fax or through other electronic media. Therefore, applications transmitted to ACF electronically will not be accepted regardless of the date or time of submission and time of receipt.

Late Applications

Applications, which do not meet the criteria above, are considered late applications. The ACF shall notify each late applicant that its application will not be considered in the current competition.

Extension of Deadlines

ACF may extend the deadline for all applicants due to acts of God, such as floods, hurricanes or earthquakes; widespread disruption of the mails; or if ACF determines a deadline extension to be in the best interest of the Government. A determination to waive or extend deadline requirements rests with the Chief Grants Management Officer.

D. Instructions for Preparing the Application and Completing Application Forms

1. SF 424

The SF 424 and certifications have been reprinted for your convenience in preparing the application. You should reproduce single-sided copies of these forms from the reprinted forms in the announcement, typing your information onto the copies.

At the top of the Cover Page of the SF 424, enter the single priority area number under which the application is being submitted. An application should be submitted under only one priority area.

2. SF 424A—Budget Information—Non-Construction Programs

With respect to the 424A, Budget Information—Non-Construction Programs, Sections A, B, C, E, and F are to be completed. Section D does not need to be completed.

In order to assist applicants in correctly completing the SF 424 and 424A, detailed instructions for completing these forms are contained on the forms themselves. See the Instructions accompanying the attached SF 424A, as well as the instructions set forth below.

Section A—Budget Summary

Lines 1-4

Column (a) Line 1—Enter OCS FVPS Program.

Column (b) Line 1—Enter 93.592.

Columns (c) and (d)—Not Applicable.

Columns (e), (f) and (g)—For lines 1 through 4, enter in appropriate amounts needed to support the project for the entire project period.

Line 5

Enter the figures from Line 1 for all columns completed, (e), (f), and (g).

Section B—Budget Categories

This section should contain entries for OCS funds only. For all projects, the first budget period will be entered in Column (1).

Allocability of costs is governed by applicable cost principles set forth in the Code of Federal Regulations (CFR), Title 45, Parts 74 and 92.

Budget estimates for administrative costs must be supported by adequate detail for the grant officer to perform a cost analysis and review. Adequately detailed calculations for each budget object class are those which reflect estimation methods, quantities, unit costs, salaries, and other similar quantitative detail sufficient for the calculation to be duplicated. For any additional object class categories included under the object class other, identify the additional object class(es) and provide supporting calculations.

Supporting narratives and justifications are required for each budget category, with emphasis on unique/special initiatives; large dollar amounts; local, regional, or other travel; new positions; major equipment purchases; and training programs.

A detailed itemized budget with a separate budget justification for each major item should be included as indicated below:

Line 6a

Personnel—Enter the total costs of salaries and wages.

Justification—Identify the project director and staff. Specify by title or name the percentage of time allocated to the project, the individual annual salaries and the cost to the project (both Federal and non-Federal) of the organization's staff who will be working on the project.

Line 6b

Fringe Benefits—Enter the total costs of fringe benefits unless treated as part of an approved indirect cost rate, which is entered on Line 6j.

Justification—Enter the total costs of fringe benefits, unless treated as part of an approved indirect cost rate. Provide a breakdown of amounts and percentages that comprise fringe benefit costs.

Line 6c

Travel—Enter total cost of all travel by employees of the project. Do not enter costs for consultant's travel.

Justification—Include the name(s) of traveler(s), total number of trips, destinations, length of stay, mileage rate, transportation costs and subsistence allowances. Traveler must be a person listed under the personnel line or employee being paid under non-federal share.

Note: Local transportation and Consultant travel costs are entered on Line 6h.

Line 6d

Equipment—Enter the total costs of all equipment to be acquired by the project. Equipment means an article of non-expendable, tangible personal property having a useful life of more than one year and an acquisition cost which equals or exceeds the lesser of (a) the capitalization level established by the organization for financial statement purposes, or (b) $5,000.

Note: If an applicant's current rate agreement was based on another definition for equipment, such as “tangible personal property $500 or more”, the applicant shall use the definition used by the cognizant agency in determining the rate(s). However, consistent with the applicant's equipment policy, lower limits may be set.

Justification—Equipment to be purchased with Federal funds must be required to conduct the project, and the applicant organization or its subgrantees must not already have the equipment or a reasonable facsimile available to the project.

Line 6e

Supplies—Enter the total costs of all tangible personal property other than that included on line 6d.

Justification—Provide a general description of what is being purchased such as type of supplies: office, classroom, medical, etc. Include equipment costing less than $5,000 per item.

Line 6f

Contractual—Costs of all contracts for services and goods except for those which belong under other categories such as equipment, supplies, construction, etc. Third-party evaluation contracts (if applicable) and contracts with secondary recipient organizations, including delegate agencies and specific project(s) or businesses to be financed by the applicant, should be included under this category.

Justification—All procurement transactions shall be conducted in a manner to provide, to the maximum extent practical, open and free competition. Recipients and subrecipients, other than States that are required to use Part 92 procedures, must justify any anticipated procurement action that is expected to be awarded without competition and exceed the simplified acquisition threshold fixed at 41 USC 403(11) currently set at $100,000. Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Line 6g

Construction—Not applicable.

Line 6h

Other—Enter the total of all other costs. Such costs, where applicable, may include, but are not limited to, insurance, food, medical and dental costs (non-contractual), fees and travel paid directly to individual consultants, local transportation (all travel which does not require per diem is considered local travel), space and equipment rentals, printing and publication, computer use training costs including tuition and stipends, training service costs including wage payments to individuals and supportive service payments, and staff development costs.

Line 6j

Indirect Charges—Enter the total amount of indirect costs. This line should be used only when the applicant currently has an indirect cost rate approved by DHHS or other Federal agencies.

Line 6k

Totals—Enter the total amount of Lines 6i and 6j.

Line 7

Program Income—Enter the estimated amount of income, if any, expected to be generated from this project. Separately show expected program income generated from OCS support and income generated from other mobilized funds. Do not add or subtract this amount from the budget total. Show the nature and source of income in the program narrative statement.

Justification—Describe the nature, source and anticipated use of program income in the Program Narrative Statement.

Section C—Non-Federal Resources

This section is to record the amounts of Non-Federal resources that will be used to support the project. Non-Federal resources mean other than OCS funds for which the applicant has received a commitment. Provide a brief explanation, on a separate sheet, showing the type of contribution, broken out by Object Class Category, (See SF-424A, Section B.6) and whether it is cash or third party in-kind. The firm commitment of these required funds must be documented and submitted with the application in order to be given credit in the Criterion.

Except in unusual situations, this documentation must be in the form of letters of commitment or letters of intent from the organization(s)/individuals from which funds will be received.

Line 8

Column (a)—Enter the project title.

Column (b)—Enter the amount of cash or donations to be made by the applicant.

Column (c)—Enter the State contribution.

Column (d)—Enter the amount of cash and third party in-kind contributions to be made from all other sources.

Column (e)—Enter the total of columns (b), (c), and (d).

Lines 9, 10 and 11

Leave Blank.

Line 12

Carry the total of each column of Line 8, (b) through (e). The amount in Column (e) should be equal to the amount on Section A, Line 5, Column (f).

Justification—Describe third party in-kind contributions, if included.

Section F—Other Budget Information

Line 21

Direct Charges—Include narrative justification required under Section B for each object class category for the total project period.

Line 22

Indirect Charges—Enter the type of DHHS or other Federal agency approved indirect cost rate (provisional, predetermined, final or fixed) that will be in effect during the funding period, the estimated amount of the base to which the rate is applied and the total indirect expense. Also, enter the date the rate was approved, where applicable. Attach a copy of the approved rate agreement.

Line 23

Provide any other explanations and continuation sheets required or deemed necessary to justify or explain the budget information.

3. Project Summary Description

Clearly mark this separate page with the applicant name as shown in item 5 of the SF 424, and the title of the project as shown in item 11 of the SF 424. The summary description should not exceed 300 words. These 300 words become part of the computer database on each project.

Care should be taken to produce a summary description that accurately and concisely reflects the application. It should describe the objectives of the project, the approaches to be used and the outcomes expected. The description should also include a list of major products that will result from the proposed project, such as software packages, materials, management procedures, data collection instruments, training packages, or videos (please note that audiovisual materials should be closed captioned). The project summary description, together with the information on the SF 424, will constitute the project “abstract.” It is the major source of information about the proposed project and is usually the first part of the application that the reviewers read in evaluating the application.

4. Program Narrative Statement

The Program Narrative Statement is a very important part of an application. It should be clear, concise, and address the specific requirements mentioned under the priority area description in Part II. The narrative should also provide information concerning how the application meets the evaluation criteria using the following headings:

(a) Need for the Project;

(b) Goals and Objectives;

(c) Approach;

(d) Results and Benefits; and

(e) Level of effort.

The specific information to be included under each of these headings is described in Part III, Evaluation Criteria.

The narrative should be typed double-spaced on a single-side of an 8½″ × 11″ plain white paper, with 1″ margins on all sides. All pages of the narrative (including charts, references/footnotes, tables, maps, exhibits, etc.) must be sequentially numbered, beginning with “Objectives and Need for the Project” as page number one. Applicants should not submit reproductions of larger size paper, reduced to meet the size requirement.

The length of the application, including the application forms and all attachments, should not exceed 60 pages. A page is a single side of an 8½″ × 11″ sheet of paper. Applicants are requested not to send pamphlets, maps, brochures or other printed material along with their application as these pose photocopy difficulties. These materials, if submitted, will not be included in the review process if they exceed the 60-page limit. Each page of the application will be counted to determine the total length.

5. Organizational Capability Statement

The Organizational Capability Statement should consist of a brief (two to three pages) background description of how the applicant organization (or the unit within the organization that will have responsibility for the project) is organized, the types and quantity of services it provides, and/or the research and management capabilities it possesses. This description should cover capabilities not included in the Program Narrative Statement. It may include descriptions of any current or previous relevant experience, or describe the competence of the project team and its demonstrated ability to produce a final product that is readily comprehensible and usable. An organization chart showing the relationship of the project to the current organization should be included.

6. Assurances/Certifications

Applicants are required to file an SF 424B, Assurances—Non-Construction Programs, and the Certification Regarding Lobbying. Both must be signed and returned with the application. In addition, applicants must certify their compliance with: (1) Drug-Free Workplace Requirements; and (2) Debarment and Other Responsibilities; and (3) Certification Regarding Environmental Tobacco Smoke. These certifications are self-explanatory. Copies of these assurances/certifications are reprinted at the end of this Application Kit and should be reproduced as necessary. A duly authorized representative of the applicant organization must certify that the applicant is in compliance with these assurances/certifications. A signature on the SF 424 indicates compliance with the Drug Free Workplace Requirements, and Debarment and Other Responsibilities, and Environmental Tobacco Smoke certifications.

E. The Application Package

Each application package must include an original and four copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

Applicants should include a self-addressed stamped acknowledgement card. All applicants will be notified automatically about the receipt of their application. If acknowledgement of receipt of your application is not received within three weeks after the deadline date, please notify the Family Violence Operations Center at (703) 351-7676.

F. Post-Award Information and Reporting Requirements

Following approval of the applications selected for funding, notice of project approval and authority to draw down project funds will be made in writing. The official award document is the Financial Assistance Award which provides the amount of Federal funds approved for use in the project, the project and budget periods for which support is provided, the terms and conditions of the award, the total project period for which support is contemplated, and the total required financial grantee participation.

General Conditions and Special Conditions (where the latter are warranted) which will be applicable to grants, grantees will be subject to the provisions of 45 CFR part 74 or 92.

Grantees will be required to submit semi-annual progress and semi-annual financial reports (SF 269) throughout the project period, as well as a final progress and financial report within 90 days of the termination of the project.

Audit requirements are prescribed in OMB Circular A-133, “Audits of State, Local Governments and Non-Profit Organizations.” This circular establishes uniform audit requirements for non-Federal entities that administer Federal awards. The revised circular became effective July 30, 1997 and applies to audits of fiscal years beginning after June 30, 1996. If an applicant does not request indirect costs, it should anticipate in its budget request the cost of having an audit performed at the end of the grant period.

Section 319 of Public Law 101-121, signed into law on October 23, 1989, imposes prohibitions and requirements for disclosure and certification related to lobbying on recipients of Federal contracts, grants, cooperative agreements, and loans. It provides exemptions or Indian Tribes and Tribal organizations. Current and prospective recipients (and their sub-tier contractors and/or grantees) are prohibited from using Federal funds, other than profits from a Federal contract, for lobbying Congress or any Federal agency in connection with the award of a contract, grant, cooperative agreement or loan. In addition, for each award action in excess of $100,000 (or $150,000 for loans) the law requires recipients and their sub-tier contractors and/or sub-grantees (1) To certify that they have neither used nor will use any appropriated funds for payment to lobbyists; (2) to disclose the name, address, payment details, and the purpose of any agreements with lobbyists whom recipients or their sub-tier contractors or sub-grantees will pay with profits or non-appropriated funds on or after December 22, 1989 and (3) to file quarterly updates about the use of lobbyists if material changes occur in their use. The law establishes civil penalties for noncompliance.

(Catalog of Federal Domestic Assistance number 93.592, Family Violence Prevention and Services)
Dated: April 2, 2001.
Robert Mott,
Acting Director, Office of Community Services.

Family Violence Prevention and Services Program; List of Attachments

Attachment B-1 Application for Federal Assistance

Attachment B-2 Budget Information—Non-Construction Programs

Attachment B-3 Assurances—Non-Construction Programs

Attachment C Certification Regarding Drug-Free Workplace Requirements

Attachment D Certification Regarding Debarment, Suspension, and other Responsibility Matters (Primary Covered Transactions)

Attachment E Certification Regarding Environmental Tobacco Smoke

Attachment F-1 Certification Regarding Lobbying

Attachment F-2 Disclosure of Lobbying Activities

Attachment G State Single Point of Contact Listing

BILLING CODE 4184-01-P

INSTRUCTIONS FOR THE SF-424

Attachment B-1 Page 2

Public reporting burden for this collection of information is estimated to average 45 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0043), Washington, DC 20503.

Please do not return your completed form to the Office of Management and Budget. Send it to the address provided by the sponsoring agency.

This is a standard form used by applicants as a required facesheet for preapplications and applications submitted for Federal assistance. It will be used by Federal agencies to obtain applicant certification that States which have established a review and comment procedure in response to Executive Order 12372 and have selected the program to be included in their process, have been given an opportunity to review the applicant's submission.

Item and Entry

1. Self-explanatory.

2. Date application submitted to Federal agency (or State if applicable) and applicant's control number (if applicable).

3. State use only (if applicable).

4. If this application is to continue or revise an existing award, enter present Federal identifier number. If for a new project, leave blank.

5. Legal name of applicant, name of primary organizational unit which will undertake the assistance activity, complete address of the applicant, and name and telephone number of the person to contact on matters related to this application.

6. Enter Employer Identification Number (EIN) as assigned by the Internal Revenue Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability form an existing obligation.

9. Name of Federal agency from which assistance is being requested with this application.

10. Use the Catalog of Federal Domestic Assistance number and title of the program under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List the applicant's Congressional District and any District(s) affected by the program or project.

15. Amount requested or to be contributed during the first funding/budget period by each contributor. Value of in-kind contributions should be included on appropriate lines as applicable. If the action will result in a dollar change to an existing award, indicate only the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt include delinquent audit disallowances, loans and taxes.

18. To be signed by the authorized representative of the applicant. A copy of the governing body's authorization for you to sign this application as official representative must be on file in the applicant's office (Certain Federal agencies may require that this authorization be submitted as part of the application.)

BILLING CODE 4184-01-C

INSTRUCTIONS FOR THE SF-424A

Attachment B-2, Page 3

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

Please do not return your completed form to the Office of Management and Budget. Send to the address provided by the sponsoring agency.

General Instructions

This form is designed so that application can be made for funds from one or more grant programs. In preparing the budget, adhere to any existing Federal grantor agency guidelines which prescribe now and whether budgeted amounts should be separately shown for different functions or activities within the program. For some programs, grantor agencies may require budgets to be separately shown by function or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Lines a-k of Section B.

Section A. Budget Summary Lines 1-4 Columns (a) and (b)

For applications pertaining to a single Federal grant program (Federal Domestic Assistance Catalog number) and not requiring a functional or activity breakdown, enter on Line 1 under Column (a) the Catalog program title and the Catalog number in Column (b).

For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g)

For new applications, leave Column (c) and (d) blank. For each line entry in Columns (a) and (b), enter in Columns (e), (f), and (g) the appropriate amounts of funds needed to support the project for the first funding period usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amount(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the total for all columns used.

Section B. Budget Categories

In the column headings (1) through (4), enter the titles of the same programs, functions, and activities shown on Lines 1-4, Column (a), Section A. When additional sheets are prepared for Section A, provide similar column headings on each sheet. For each program, function or activity, fill in the total requirements for funds (both Federal and non-Federal) by object class categories.

Lines 6a-j—Show the totals of Lines 6a to 6h in each column.

Line 6j—Show the amount of indirect cost.

Line 6k—Enter the total amounts on Lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or subtract this amount from the total project amount. Show under the program narrative statement the nature and source of income. The estimated amount of program income may be considered by the Federal grantor agency in determining the total amount of the grant.

Section C. Non-Federal Resources

Lines 8-11 Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter total of Columns (b), (c), and (d).

Line 12—Enter the total for each of Columns (b)-(e). The amount in Column (e) should be equal to the amount on Line 5, Column (f), Section A.

Section D. Forecasted Cash Needs

Line 13—Enter the amount of cash needed by quarter from the grantor agency during the first year.

Line 14—Enter the amount of cash from all other sources needed by quarter during the first year.

Line 15—Enter the totals of amounts on Lines 13 and 14.

Section E. Budget Estimates of Federal Funds Needed for Balance of the Project

Lines 16-19—Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Line 20—Enter the total for each of the Columns (b)-(3). When additional schedules are prepared for this Section, annotate accordingly and show the overall totals on this lines.

Section F. Other Budget Information

Line 21—Use this space to explain amounts for individual direct object class cost categories that may appear to be out of the ordinary or to explain the details as required by the Federal grantor agency.

Line 22—Enter the type of indirect rate (provisions, predetermined, final or fixed) that will be in effect during the funding period, the estimated amount of the base to which the rate is applied, and the total indirect expense.

Line 23—Provide any other explanations or comments deemed necessary.

Attachment B-3, Page 1

Assurances—Non-Construction Programs

Public reporting burden for this collection of information is estimated to average 15 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0040) Washington, DC 20503.

Please do not return your completed form to the Office of Management and Budget. Send it to the address provided by the sponsoring agency.

Note: Certain of these assurances may not be applicable to your project or program. If you have questions, please contact the awarding agency. Further, certain Federal awarding agencies may require applicants to certify to additional assurances. If such is the case, you will be notified.

As the duly authorized representative of the applicant, I certify that the applicant:

1. Has the legal authority to apply for Federal assistance and the institutional, managerial and financial capability (including funds sufficient to pay the non-Federal share of project cost) to ensure proper planning, management and completion of the project described in this application.

2. Will give the awarding agency, the Comptroller General of the Untied States and, if appropriate, the State, through any authorized representative, access to and the right to examine all records, books, papers, or documents related to the award; and will establish a proper accounting system in accordance with generally accepted accounting standards or agency directives.

3. Will establish safeguards to prohibit employees from using their positions for a purpose that constitutes or presents the appearance of personal or organizational conflict of interest, or personal gain.

4. Will initiate and complete the work within the applicable time frame after receipt of approval of the awarding agency.

5. Will comply with the intergovernmental Personnel Act of 1970 (42 U.S.C. §§ 4728-4763) relating to prescribed standards for merit systems for programs funded under one of the 19 statutes or regulations specified in Appendix A of OPM's Standards for a Merit System of Personnel Administration (5 C.F.R. 900, Subpart F).

6. Will comply with all Federal statutes relating to nondiscrimination. These include but are not limited to: (a) Title VI of the Civil Rights Act of 1964 (P.L. 88-352) which prohibits discrimination on the basis of race, color or national origin; (b) Title IX of the Education Amendments of 1972, as amended (20 U.S.C. §§ 1681-1683, and 1685-1686), which prohibits discrimination on the basis of sex; (c) Section 504 of the Rehabilitation Act of 1973, as amended (29 U.S.C. § 794), which prohibits discrimination on the basis of handicaps; (d) the Age Discrimination Act of 1975, as amended (42 U.S.C. §§ 6101-6107), which prohibits discrimination on the basis of age; (e) the Drug Abuse Office and Treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health service Act of 1912 (42 U.S.C. §§ 290 dd-3 and 290 ee 3), as amended, relating to confidentiality of alcohol and drug abuse patient records; (h) Title VII of the Civil Rights Act of 1968 (42 U.S.C. §§ 3601 et seq.), as amended, relating to nondiscrimination in the sale, rental or financing of housing; (i) any other nondiscrimination provisions in the specific statute(s) under which application for Federal assistance is being made; and (j) the requirements of any other nondiscrimination statute(s) which may apply to the application.

7. Will comply, or has already complied, with the requirements of Titles II and III of the Uniform Relocation Assistance and Real Property Acquisition Policies Act of 1970 (P.L. 91-646) which provide for fair and equitable treatment of persons displaced or whose property is acquired as a result of Federal or federally-assisted programs. These requirements apply to all interests in real property acquired for project purposes regardless of Federal participation in purchases.

8. Will comply, as applicable, with provisions of the Hatch Act (5 U.S.C. §§ 1501-1508 and 7324-7328) which limit the political activities of employees whose principal employment activities are funded in whole or in part with Federal funds.

9. Will comply, as applicable with the provisions of the Davis-Bacon Act (40 U.S.C. §§ 276a to 276a-7), the Copeland Act (40 U.S.C. § 276c and 18 U.S.C. § 874), and the Contract Work Hours and Safety Standards Act (40 U.S.C. §§ 327-333), regarding labor standards for federally-assisted construction subagreements.

10. Will comply, if applicable, with flood insurance purchase requirements of Section 102(a) of the Flood Disaster Protection Act of 1973 (P.L. 93-234) which requires recipients in a special flood hazard area to participate in the program and to purchase flood insurance if the total cost of insurable construction and acquisition is $10,000 or more.

11. Will comply with environmental standards which may be prescribed pursuant to the following: (a) institution of environmental quality control measures under the National Environmental Policy Act of 1969 (P.L. 91-190) and Executive Order (EO) 11514; (b) notification of violating facilities pursuant to EO 11738; (c) protection of wetlands pursuant to EO 11990; (d) evaluation of flood hazards in floodplains in accordance with EO 11988; (e) assurance of project consistency with the approved State management program developed under the Coastal Zone Management Act of 1972 (16 U.S.C. §§ 1451 et seq;): (f) conformity of Federal actions to State (Clean Air) Implementation Plans under Section 176(c) of the Clean Air Act of 1955, as amended (42 U.S.C. §§ 7401 et seq.): (g) protection of underground sources of drinking water under the Safe Drinking Water Act of 1974, as amended (P.L. 93-523); and, (h) protection of endangered species under the Endangered Species Act of 1973, as amended (P.L. 93-205).

12. Will comply with the Wild and Scenic Rivers Act of 1968 (16 U.S.C. §§ 1271 et seq.) related to protecting components or potential components of the national wild and scenic rivers system.

13. Will assist the awarding agency in assuring compliance with Section 106 of the National Historic Preservation Act of 1966, as amended (16 U.S.C. § 470), EO 11593 (identification and protection of historic properties), and the Archaeological and Historic Preservation Act of 1974 (16 U.S.C. §§ 469a-1 et seq.).

14. Will comply with P.L. 93-348 regarding the protection of human subjects involved in research, development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead-based paint in construction or rehabilitation of residence structures.

17. Will cause to be performed the required financial and compliance audits in accordance with the Single Audit Act Amendments of 1996 and OMB Circular No. A-133, ``Audits of States, Local Governments, and Non-Profit Organizations.''

18. Will comply with all applicable requirements of all other Federal laws, executive orders, regulations, and policies governing this program.

Signature of Authorized Certifying Official

Title

Applicant Organization

Date Submitted

Attachment C, Page 1

Developing ACF Program Announcements

Certification Regarding Drug-Free Workplace Requirements

This certification is required by the regulations implementing the Drug-Free Workplace Act of 1988: 45 CFR Part 76, Subpart, F. Sections 76.630(c) and (d)(2) and 76.645(a)(l) and (b) provide that a Federal agency may designate a central receipt point for STATE-WIDE AND STATE AGENCY-WIDE certifications, and for notification of criminal drug convictions. For the Department of Health and Human Services, the central pint is: Division of Grants Management and Oversight, Office of Management and Acquisition, Department of Health and Human Services, Room 517-D, 200 Independence Avenue, SW Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by an judicial body charged with the responsibility to determine violations of the Federal or State criminal drug statues;

Criminal drug statute means a Federal or non-Federal criminal statute involving the manufacture, distribution, dispensing, use, or possession of any controlled substance:

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate 1. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace:

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employ will—

(1) Abide by the terms of the statement; and

(2) Notify the employer in writing of his or her conviction for a violation of a criminal drug statute occurring in the workplace no later than five calendar days after such conviction;

(e) Notifying the agency in writing, within ten calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affected grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided below the site(s) for the performance of work done in connection with the specific grant:

Place of Performance (Street address, city, county, state, zip code)

Check □ if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

[55 FR 21690, 21702, May 25, 1990]

Attachment D, Page 1

Developing ACF Program Announcements

Certification Regarding Debarment, Suspension and Other Responsibility Matters

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion—Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transaction, unless it knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enter into a lower tier covered transaction with a person who is proposed for debarment under 48 CFR part 9, subpart 9.4, suspended, debarred, ineligible, or voluntarily excluded from participation in this transaction, in addition to other remedies available to the Federal Government, the department or agency may terminate this transaction for cause or default.

* * * * *

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of a fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicated for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participants shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participants shall provide immediate written notice to the person to which this proposal is submitted if at any time the prospective lower tier participants learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.

5. The prospective lower tier participant agrees by submitting this proposal that, [[Page 33043]] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transactions authorized under paragraph 5 of these instructions, if a participant in a covered transaction knowingly enters into a lower tier covered transaction with a person who is proposed for debarment under 48 CFR part 9, subpart 9.4, suspended, debarred, ineligible, or voluntarily excluded from participation in this transaction, in addition to other remedies available to the Federal Government, the department or agency with which this transaction originated may pursue available remedies, including suspension and/or debarment.

* * * * *

Certification Regarding Debarment, Suspension, Ineligibility and Voluntary Exclusion—Lower Tier Covered Transactions

(1) The prospective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Certification Regarding Environmental Tobacco Smoke

Public Law 103227, Part C Environmental Tobacco Smoke, also known as the Pro Children Act of 1994, requires that smoking not be permitted in any portion of any indoor routinely owned or leased or contracted for by an entity and used routinely or regularly for provision of health, day care, education, or library services to children under the age of 18, if the services are funded by Federal programs either directly or through State or local governments, by Federal grant, contract loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Attachment F-1

Developing ACF Program Announcements

Certification Regarding Lobbying

Certification for Contracts, Grants, Loans, and Cooperative Agreements

The undersigned certifies, to the best of his or her knowledge and belief, that:

(1) No Federal appropriated funds have been paid or will be paid by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL. “Disclosure Form to Report Lobbying,“ in accordance with its instructions. Submission of this statement is a prerequisite for making or entering into this transaction imposed by section 1352, title 31, U.S. Code. Any person who fails to file the required statement shall be subject to a civil penalty of not less than $10,000 and not more than $100,000 for each such failure.

Signature

Title

Organization

Date

BILLING CODE 4184-01-P

BILLING CODE 4184-01-C

Attachment F-2, Page 2

Instructions for Completion of SF-LLL, Disclosure of Lobbying Activities

This disclosure form shall be completed by the reporting entity, whether subawardee or prime Federal recipient, at the initiation or receipt of a covered Federal action, or a material change to a previous filing, pursuant to title 31 U.S.C. section 1352. The filing of a form is required for each payment or agreement to make payment to any lobbying entity for influencing or attempting to influence an officer or employee of any agency, a Member of Congress, or officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action.

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subward recipient. Identify the tier of the subawardee, e.g., the first subawardee of the prime is the 1st tier. Subawards include but are not limited to subcontracts, subgrants and contract awards under grants.

5. If the organization filing the report in Item 4 checks “Subawardee,” then enter the full name, address, city, State and zip code of the prime Federal recipient. Include Congressional District, if known.

6. Enter the name of the Federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Request for Proposal (RFP) number; Invitation for Bid (IFB) number; grant announcement number; the contract, grant, or loan award number; the application/proposal control number assigned by the Federal agency). Include prefixes, e.g. “RFP-DE-90-001.”

9. For a covered Federal action where there has been an award or loan commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

(b) Enter the full names of the individual(s) performing services, and include full address if different from 10(a). Enter Last Name, First Name, and Middle Initial (MI)

11. The certifying official shall sign and date the form, print his/her name, title, and telephone number..

According to the Paperwork Reduction Act, as amended, no persons are required to respond to a collection of information unless it displays a valid OMB Control Number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

Attachment G, Page 1

Office of Management and Budget

It is estimated that in 2001 the Federal Government will outlay $305.6 billion in grants to State and local governments. Executive Order 12372, “Intergovernmental Review of Federal Programs,” was issued with the desire to foster the intergovernmental partnership and strengthen federalism by relying on State and local processes for the coordination and review of proposed Federal financial assistance and direct Federal development. The Order allows each State to designate an entity to perform this function. Below is the official list of those entities. For those States that have a home page for their designated entity, a direct link has been provided below. States that are not listed on this page have chosen not to participate in the intergovernmental review process, and therefore do not have a SPOC. If you are located within one of these States, you may still send application materials directly to a Federal awarding agency.

Arkansas

Tracy L. Copeland, Manager, State Clearninghouse, Office of Intergovernmental Services, Department of Finance and Administration, 1515 W. 7th St., Room 412, Little Rock, Arkansas 72203, Telephone: (501) 682-1074, Fax: (501) 682-5206, tlcopeland@dfa.state.ar.us

California

Grants Coordination, State Clearninghouse, Office of Planning and Research, P.O. Box 3044, Room 222, Sacramento, California 95812-3044, Telephone: (916) 445-0613, Fax: (916) 323-3018, state.clearinghouse@opr.ca.gov

Delaware

Charles H. Hopkins, Executive Department, Office of the Budget, 540 S. Dupont Highway, 34rd Floor, Dover, Delaware 19901, Telephone: (302) 739-3323, Fax: (302) 739-5661, chopkins@state.de.us

District of Columbia

Ron Seldon, Office of Grants Management and Development, 717 14th Street, NW., Suite 1200, Washington, DC 20005, Telephone: (202) 727-1705, Fax: (202) 727-1617, ogmd-ogmd@dcgov.org

Florida

Cherie L. Trainor, Florida State Clearinghouse, Department of Community Affairs, 2555 Shumard Oak Blvd., Tallahassee, Florida 32399-2100, Telephone (850) 922-5438, (850) 414-5495 (direct), Fax: (850) 414-0479, cherie.trainor@dca.state.fl.us,

Georgia

Georgia State Clearinghouse, 270 Washington Street, SW., Atlanta, Georgia 30334, Telephone: (404) 656-3855, Fax: (404) 656-7901, gach@mail.opb.state.ga.us

Illinois

Virginia Bova, Department of Commerce and Community Affairs, James R. Thompson Center, 100 West Randolph, Suite 3-400, Chicago, Illinois 60601, Telephone: (312) 814-6028, Fax (312) 814-8485, vbova@commerce.state.il.us

Iowa

Steven R. McCann, Division of Community and Rural Development, Iowa Department of Economic Development, 200 East Grand Avenue, Des Moines, Iowa 50309, Telephone: (515) 242-4719, Fax: (515) 242-4809, steve.mccann@ided.state.ia.us

Kentucky

Ron Cook, Department for Local Government, 1024 Capital Center Drive, Suite 340, Frankfort, Kentucky 40601, Telephone: (502) 573-2382, Fax: (502) 573-2512, ron.cook@mail.state.ky.us

Maine

Joyce Benson, State Planning Office, 184 State Street, 38 State House Station, Augusta, Maine 04333, Telephone: (207) 287-3261, (207) 287-1461 (direct), Fax: (207) 287-6489, joyce.benson@state.me.us

Maryland

Linda Janey, Manager, Clearinghouse and Plan Review Unit, Maryland Office of Planning, 301 West Preston Street—Room 1104, Baltimore, Maryland 21201-2305, Telephone: (410) 767-4490, Fax: (410) 767-4480, linda@mail.op.state.md.us

Michigan

Richard Pfaff, Southeast Michigan Council of Governments, 535 Griswold, Suite 300, Detroit Michigan 48226, Telephone: (313) 961-4266, Fax: (313) 961-4869, pfaff@semcog.org

Mississippi

Cathy Mallette, Clearinghouse Officer, Department of Finance and Administration, 550 High Street, 303 Walters Sillers Building, Jackson, Mississippi 39201-3087, Telephone: (601) 359-6762, Fax: (601) 359-6758

Missouri

Lois Pohl, Federal Assistance Clearinghouse, Office of Administration, P.O. Box 809, Jefferson Building, Room 915, Jefferson City, Missouri 65102, Telephone: (573) 751-4834, Fax: (573) 522-4395, pohll_@mail.oa.state.mo.us

Nevada

Heather Elliott, Department of Administration, State Clearinghouse, 209 E. Musser Street, Room 200, Carson City, Nevada 89701, Telephone: (775) 684-0209, Fax: (775) 684-0260, helliott@govmail.state.nv.us

New Hampshire

Jeffrey H. Taylor, Director, New Hampshire Office of State Planning, Attn: Intergovernmental Review Process, Mike Blake, 2½ Beacon Street, Concord, New Hampshire 03301, Telephone: (603) 271-2155, Fax: (603) 271-1728, jtaylor@osp.state.nh.us

New Mexico

Ken Hughes, Local Government Division, Room 201 Bataan Memorial Building, Santa Fe, New Mexico 87503, Telephone: (505) 827-4370, Fax: (505) 827-4948, khughes@dfa.state.nm.us

North Carolina

Jeanette Furney, Department of Administration, 1302 Mail Service Center, Raleigh, North Carolina 27699-1302, Telephone: (919) 807-2323, Fax: (919) 733-9571, jeanette.furney@ncmail.net

North Dakota

Jim Boyd, Division of Community Services, 600 East Boulevard Ave, Dept 105, Bismarck, North Dakota 58505-0170, Telephone: (701) 328-2094, Fax: (701) 328-2308, jboyd@state.nd.us

Rhode Island

Kevin Nelson, Department of Administration, Statewide Planning Program, One Capitol Hill, Providence, Rhode Island 02908-5870, Telephone: (401) 222-2093, Fax: (401) 222-2083, knelson@doa.state.ri.us

South Carolina

Omeagia Burgess, Budget and Control Board, Office of State Budget, 1122 Ladies Street, 12th Floor, Columbia, South Carolina 29201, Telephone: (803) 734-0494, Fax: (803) 734-0645, aburgess@budget.state.sc.us

Texas

Denise S. Francis, Director, State Grants Team, Governor's Office of Budget and Planning, P.O. Box 12428, Austin, Texas 78711, Telephone: (512) 305-9415, Fax: (512) 936-2681, dfrancis@governor.state.tx.us

Utah

Carolyn Wright, Utah State Clearinghouse, Governor's Office of Planning and Budget, State Capitol, Room 114, Salt Lake City, Utah 84114, Telephone: (801) 538-1535, Fax: (801) 538-1547, cwright@gov.state.ut.us

West Virginia

Fred Cutlip, Director, Community Development Division, West Virginia Development Office, Building #6, Room 553, Charleston, West Virginia 25305, Telephone: (304) 558-4010, Fax: (304) 558-3248, fcutlip@wvdo.org

Wisconsin

Jeff Smith, Section Chief, Federal/State Relations, Wisconsin Department of Administration, 101 East Wilson Street—6th Floor, P.O. Box 7868, Madison, Wisconsin 53707, Telephone: (608) 266-0267, Fax: (608) 267-6931, jeffrey.smith@doa.state.wi.us

Guam

Director, Bureau of Budget and Management Research, Office of the Governor, P.O. Box 2950, Agana, Guam 96910, Telephone: 011-671-472-2285, Fax: 011-472-2825, jer@ns.gov.gu

Puerto Rico

Jose Caballero/Mayra Silva, Puerto Rico Planning Board, Federal Proposals Review Office, Minillas Government Center, P.O. Box 41119, San Juan, Puerto Rico 00940-1119, Telephone: (787) 723-6190, Fax: (787) 722-6783

North Mariana Islands

Ms. Jacoba T. Seman, Federal Programs Coordinator, Office of Management and Budget, Office of the Governor, Saipan, MP 96950, Telephone: (670) 664-2289, Fax: (670) 664-2272, omb.jseman@saipan.com

Virgin Islands

Ira Mills, Director, Office of Management and Budget, #41 Norre Gade Emanicpation Garden Station, Second Floor, Saint Thomas, Virgin Islands 00802, Telephone: (340) 774-0750, Fax: (340) 776-0069, Irmills@usvi.org

Changes to this list can be made only after OMB is notified by a State's officially designated representative. E-mail messages can be sent to grants@omb.eop.gov. If you prefer, you may send correspondence to the following postal address: Attn: Grants Management, Office of Management and Budget, New Executive Office Building, Suite 6025, 725 17th Street, NW, Washington, DC 20503.

Please note: Inquiries about obtaining a Federal grant should not be sent to the OMB e-mail or postal address shown above. The best source for this information is the CFDA.

[FR Doc. 01-8455 Filed 4-5-01; 8:45 am]

BILLING CODE 4184-01-P